DEPARTMENT OF LABOR

Employment and Training Administration

[TA-W-52,552]

Joy Mining Machinery, Abingdon, Virginia; Notice of Termination of Investigation

Pursuant to section 221 of the Trade Act of 1974, an investigation was initiated on August 13, 2003, in response to a worker petition filed on behalf of a worker at Joy Mining Machinery, Abingdon, Virginia.

The petitioners have requested that the petition be withdrawn. Consequently, further investigation has been terminated.

Signed in Washington, DC, this 22nd day of August, 2003.
Elliott S. Kushner,
Certifying Officer, Division of Trade Adjustment Assistance.

[FR Doc. 03-23723 Filed 9-16-03; 8:45 am]

BILLING CODE 4510-30-P